DEPARTMENT OF DEFENSE

Department of the Army, Corps of Engineers

33 CFR Part 207

St. Marys Falls Canal and Locks, Michigan; Use, Administration and Navigation

AGENCY: Army Corps of Engineers, DoD.

ACTION: Final rule.

SUMMARY: The U.S. Army Corps of Engineers is amending its regulations on procedures to navigate the St. Marys Falls Canal and Soo Locks at Sault St. Marie, Michigan, to incorporate changes in navigation safety procedures published in three Notice to Navigation Interests issued on March 29, 2000. The St. Marys Falls Canal and Locks navigation regulation is amended to delete reference to oil tankers having draft and beam permitting transit through the Canadian lock, since the Canadian lock no longer handles oil tankers. The regulation will also prohibit the cleaning and gas freeing of tanks on all hazardous material cargo vessels while either in the lock or while in any part of the Soo Locks approach canals. As an additional vessel safety measure, whenever a tank vessel is within the limits of the lock piers either above or below the locks, vessel movement will be limited to a single vessel, unless the tanker is certified gas free or is carrying non-combustible products. The regulation will allow tankers with any type cargo to transit the MacArthur Lock when the locks park is closed, while tankers carrying non-combustible products or tankers certified gas free will be allowed to transit the MacArthur Lock when the park is open. The regulation clarifies that vessels, except U.S. vessels of war and public vessels (as defined in 46 U.S.C. 2101), carrying explosives are prohibited from transiting U.S. Locks.

DATES: The final rule is effective July 5, 2001.

ADDRESSES: U.S. Army Corps of Engineers, ATTN: CECW-OD, 441 G Street, NW., Washington, DC 20314-1000.

FOR FURTHUR INFORMATION CONTACT: Mr. Jim Hilton, Dredging and Operations Branch (CECW-OD) at (202) 761-4669 or Mr. David L. Dulong, Chief, Engineering Technical Services, Detroit District at (313) 226-6794.

SUPPLEMENTARY INFORMATION: Pursuant to its authority in Section 4 of the Rivers and Harbors Act of August 18, 1894 (40 Stat. 266; 33 U.S.C. 1), the Corps is amending the regulations in 33 CFR 207.441(b)(4) and (5). The regulation governing the operation of the St. Marys Falls Canal and Locks, 33 CFR 207.441 was adopted on March 6, 1954, (19 FR 1275) and has been amended at various times.

Paragraph (b) is amended to delete reference to classes of vessels permitted to transit the U.S. locks or enter any of the United States approach canals. Paragraph (b)(4) is further amended by deleting reference to oil tankers being permitted to transit through the Canadian lock, as the Canadian lock has been refurbished and can no longer accommodate oil tankers. In addition, paragraph (b)(4) is amended by deleting reference to personnel smoking onboard tankers while in the lock area, as prohibiting smoking is included in 33 CFR 207.440(s). Paragraph (b)(4) is amended and rewritten to improve vessel safety by adding subparagraphs (i), (ii), and (iii). Subparagraph (b)(4)(i) prohibits the cleaning and gas freeing of tanks on all hazardous material cargo vessels (as defined in 49 CFR part 171), while the vessel is either in the lock or in any part of the Soo Locks approach canals from the outer end of the east center pier to the outer end of the southwest pier. Subparagraph (b)(4) (ii) is added for safety purposes to limit vessel movement to a single vessel whenever a tank vessel carrying hazardous cargo is within the limits of the lock piers either above or below the locks, unless the vessel is certified gas free or is carrying non-combustible products. Subparagraph (b)(4)(iii) is added to allow tankers carrying any type of cargo to transit MacArthur Lock when the locks park is closed. Tankers certified gas free or carrying non-combustible products that will not react hazardously with water will be allowed to transit MacArthur Lock when the park is open.

Paragraph (b)(5) is amended to add a phrase to clarify that vessels, except U.S. vessels of war or public vessels as defined in 46 U.S.C. 2101, carrying explosives are prohibited from transiting the U.S. Locks.

This final rule is not a major rule for the purposes of Executive Order 12866. As required by the Regulatory Flexibility Act, the Corps certifies that this final rule will not have a significant impact on small business entities.

Comments on the Proposed Rule

Three comments were received to the January 23, 2001, Federal Register proposed rule and the January 23, 2001, public notice issued by the Detroit District. Two industry comments requested a clarifying phrase be added to § 207.441(4)(ii)(iii) to allow the release of a vessel from the lock in the direction of a approaching tank vessel, if the tanker is certified gas free and allow tankers certified gas free to transit the lock when MacArthur Lock park is open. We concur with adding the phrase “unless the vessel is certified gas free or is carrying non-combustible products”. One comment requested that U.S. vessels of war and public vessels, as defined in 46 U.S.C. 2101, be exempt from the provision of being prohibited from transiting the U.S. Locks carrying explosives. We concur with this exemption.

List of Subjects in 33 CFR Part 207

Navigation (water), Penalties, Reporting and recordkeeping requirements, Waterways.

For reasons set out in the preamble, Title 33, Chapter II of the Code of Federal Regulations is amended as follows:

PART 207—NAVIGATION REGULATIONS

1. The authority citation for part 207 continues to read as follows:

Authority: 40 Stat. 266 (33 U.S.C. 1).

2. Section 207.441 is amended by revising paragraphs (b)(4) and (b)(5) to read as follows:

§ 207.441 St. Marys Falls Canal and Locks, Mich.; security.

* * * * *

(b) Restrictions on transit of vessels. * * *

(1) Tanker vessels—(i) Hazardous material. Cleaning and gas freeing of tanks on all hazardous material cargo vessels (as defined in 49 CFR part 171) shall not take place in a lock or any part of the Soo Locks approach canals from the outer end of the east center pier to the outer end of the southwest pier.

(ii) Approaching. Whenever a tank vessel is approaching the Soo Locks and within the limits of the lock piers (outer ends of the southwest and east center piers) either above or below the locks, no other vessel will be released from the locks in the direction of the approaching tank vessel, unless the tank vessel is certified gas free or is carrying non-combustible products, until the tank vessel is within the lock chamber or securely moored to the approach pier. Whenever a tank vessel is within a Soo Lock Chamber, the tank vessel, unless certified gas free or is carrying non-combustible products, will not be released from the lock until the channel within the limits of the lock piers either above or below the lock, in the direction of the tank vessel, is clear of vessels or vessels therein are securely moored to the approach pier. This limits movement to a single vessel whenever a tank vessel is within the limits of the lock piers either above or below the locks, unless the tank vessel is certified gas free or is carrying non-combustible products. Tank vessels to which this paragraph (b)(4)(ii) applies include those vessels carrying fuel oil, gasoline, crude oil or other flammable liquids in bulk, including vessels that are not certified gas free where the previous cargo was one of these liquids.

(iii) Locks park. Except as provided in paragraph (b)(5) of this section, tankers with any type cargo will be permitted to transit the MacArthur Lock when the locks park is closed. The exact dates and times that the park is closed varies, but generally these periods are from midnight to 6 a.m. June through September with one or two hour closure extensions in the early and late seasons. Tankers carrying non-combustible products that will not react hazardously with water or tankers that have been purged of gas or hazardous fumes and certified gas free will be allowed to transit the MacArthur Lock when the park is open.

(5) Carrying explosives. All vessels, except U.S. vessels of war and public vessels as defined in 46 U.S.C. 2101, carrying explosives are prohibited from transiting the U.S. Locks.

* * * * *

Dated: May 23, 2001.
Alfred H. Foxx,
Colonel, U.S. Army, Executive Director of Civil Works.

[FR Doc. 01-14023 Filed 6-4-01; 8:45 am]

BILLING CODE 3710-92-P